NUCLEAR REGULATORY COMMISSION

10 CFR Part 37

[NRC-2010-0194]

RIN 3150-AI12

Implementation Guidance for Physical Protection of Byproduct Material; Category 1 and Category 2 Quantities of Radioactive Material; Meeting

AGENCY: Nuclear Regulatory Commission.

ACTION: Notice of meeting.

SUMMARY: The U.S. Nuclear Regulatory Commission (NRC) is proposing to amend its regulations to establish security requirements for the use and transport of category 1 and category 2 quantities of radioactive material. The NRC has prepared draft guidance to address implementation of the proposed regulations. The notice of availability for the guidance was published July 14, 2010. The public comment period on the guidance ends November 12, 2010. As part of the public comment process on the guidance, the NRC plans to hold two transcribed public meetings to solicit comments on the draft implementation guidance. The meetings are open to the public and all interested parties may attend. The first meeting will be held at the Doubletree Hotel in Austin, Texas. The second meeting will be held at the NRC in Rockville, Maryland. During the comment period, comments may also be mailed to the NRC or submitted via fax.

DATES: September 1, 2010, from 8:30 a.m. to 5 p.m. in Austin, Texas and September 20, 2010, from 8:30 a.m. to 5 p.m. in Rockville, Maryland.

ADDRESSES: The September 1st meeting will be held at the Doubletree Hotel, 6505 Interstate Highway 35 North, Austin, Texas. The September 20th meeting will be held at the NRC Auditorium, Two White Flint North, 11545 Rockville Pike, Rockville, Maryland.

FOR FURTHER INFORMATION CONTACT: Merri Horn, Office of Federal and State Materials and Environmental Management Programs, U.S. Nuclear Regulatory Commission, Washington, DC 20555-0001, telephone (301) 415-8126, e-mail Merri.Horn@nrc.gov or Paul Goldberg, Office of Federal and State Materials and Environmental Management Programs, U.S. Nuclear Regulatory Commission, Washington, DC 20555-0001, telephone (301) 415-7842, e-mail Paul.Goldberg@nrc.gov.

SUPPLEMENTARY INFORMATION: The purpose of these meetings is to obtain stakeholder comments on the draft implementation guidance for proposed 10 CFR part 37 Physical Protection of Byproduct Material. The proposed rule to which the guidance applies was published on June 15, 2010 (75 FR 33902) and the public comment period ends October 13, 2010. Documents related to the proposed rule can be found at http://www.regulations.gov by searching on Docket ID NRC-2008-0120.

The availability of implementation guidance was noticed on July 14, 2010 (75 FR 40756) and the public comment period ends November 12, 2010. The implementation document provides guidance to a licensee or applicant for implementation of proposed 10 CFR part 37, Physical Protection of Byproduct Material, specifically Category 1 and Category 2 quantities of radioactive material. It is intended for use by applicants, licensees, Agreement States, and NRC staff. The document describes methods acceptable to the NRC staff for implementing proposed 10 CFR part 37. The approaches and methods described in the document are provided for information only. Methods and solutions different from those described in the document are acceptable if they meet the requirements in proposed 10 CFR part 37. The guidance is provided in the form of questions and answers on the provisions of the proposed rule. The draft implementation guidance document for proposed 10 CFR part 37 is available electronically under ADAMS Accession Number ML101470684, and can also be found at http://www.regulations.gov by searching on Docket ID: NRC-2010-0194.

AGENDA: Registration—8 a.m.-4:45 p.m.; Welcome and Introduction—8:30 a.m.; Meeting Ground Rules—8:45 a.m.; Discussion on Subpart B—8:50 a.m.; Discussion on Subpart C—10:45 a.m.; Discussion on Subpart D—1:30 p.m.; Part 37 Open Discussion—3:15 p.m.; Summary and Next Steps—4:45 p.m.

Attendees are encouraged to notify Amanda Noonan, telephone (301) 415-2551, e-mail Amanda.Noonan@nrc.gov to pre-register for the meetings. You will be able to register at the meetings, as well. To ensure that everyone who wishes has the chance to speak, we may impose a time limit on speakers.

Both oral and written comments on the implementation guidance will be accepted at the meetings. In addition, the staff will accept written comments on the proposed rule.

Dated at Rockville, Maryland, this 30th day of July 2010.
For the Nuclear Regulatory Commission.
Mark Thaggard,
Deputy Director, Division of Intergovernmental Liaison and Rulemaking, Office of Federal and State Materials and Environmental Management Programs.

[FR Doc. 2010-19408 Filed 8-5-10; 8:45 am]

BILLING CODE 7590-01-P